DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP) Teleconference.

Time and Date: 3:30 p.m.-5:30 p.m., December 7, 2001.

Place: Teleconference call will originate at the Centers for Disease Control and Prevention in Atlanta, Georgia.

Status: Closed.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The teleconference will convene in closed session from 3:30 p.m. to 5 p.m. on December 7, 2001. The purpose of this closed session is to discuss the use of anthrax vaccine for persons exposed to B. anthracis in the United States. This teleconference will be closed to the public in accordance with provisions set forth in 5 U.S.C. 552b(c)(1), (7) and (9)(B), and the Determination of the Deputy Director for Management, CDC, pursuant to Pub. L. 92-463.

SUPPLEMENTARY INFORMATION: As provided under 5 U.S.C. 552b(e) and 41 CFR 102-3.150(b), the public health urgency of this agency business requires that the meeting be held prior to the first available date for publication of this notice in the Federal Register.

CONTACT PERSON FOR MORE INFORMATION: Gloria A. Kovach, Program Analyst, Epidemiology and Surveillance Division, National Immunization Program, CDC, 1600 Clifton Road, NE, M/S E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: December 6, 2001.
John Burckhardt,
Acting Director, Management Analysis and Services Office, Centers for Disease Control and Prevention.

[FR Doc. 01-30669 Filed 12-11-01; 8:45 am]

BILLING CODE 4163-18-P